DEPARTMENT OF AGRICULTURE

Foreign Agricultural Service

WTO Agricultural Safeguard Trigger Levels

AGENCY: Foreign Agricultural Service, USDA.

ACTION: Notice of product coverage and trigger levels for safeguard measures provided for in the World Trade Organization (WTO) Agreement on Agriculture.

SUMMARY: This notice lists updated quantity trigger levels for products, which may be subject to additional import duties under the safeguard provisions of the WTO Agreement on Agriculture. This notice also includes the relevant period applicable for the trigger levels on each of the listed products.

DATES: Efffective Date: July 24, 2006.

FOR FURTHER INFORMATION CONTACT: Charles R. Bertsch, Multilateral Trade Negotiations Division, Foreign Agricultural Service, Room 5524—South Building, U.S. Department of Agriculture, Washington, DC 20250-1022, telephone at (202) 720-6278, or e-mail charles.bertsch@usda.gov.

SUPPLEMENTARY INFORMATION: Article 5 of the WTO Agreement on Agriculture provides that additional import duties may be imposed on imports of products subject to tariffication as a result of the Uruguay Round if certain conditions are met. The agreement permits additional duties to be charged if the price of an individual shipment of imported products falls below the average price for similar goods imported during the years 1986-88 by a specified percentage. It also permits additional duties to be imposed if the volume of imports of an article exceeds the average of the most recent 3 years for which data are available by 5, 10, or 25 percent, depending on the article. These additional duties may not be imposed on quantities for which minimum or current access commitments were made during the Uruguay Round negotiations, and only one type of safeguard, price or quantity, may be applied at any given time to an article.

Section 405 of the Uruguay Round Agreements Act requires that the President cause to be published in the Federal Register information regarding the price and quantity safeguards, including the quantity trigger levels, which must be updated annually based upon import levels during the most recent 3 years. the President delegated this duty to the Secretary of Agriculture in Presidential Proclamation No. 6763, QUANTITY-BASED SAFEGUARD TRIGGER, dated December 23, 1994. The Secretary of Agriculture further delegated the duty to the Administrator of the Foreign Agricultural Service (7 CFR 2.43 (a)(2)). The Annex to this notice contains the updated quantity trigger levels.

Additional information on the products subject to safeguards and the additional duties which may apply can be found in subchapter IV of Chapter 99 of the Harmonized Tariff Schedule of the United States and in the Secretary of Agriculture's Notice of Safeguard Action, published in the Federal Register at 60 FR 427, January 4, 1995.

Notice: As provided in section 405 of the Uruguay Round Agreements Act, consistent with Article 5 of the Agreement on agriculture, the safeguard quantity trigger levels previously notified are superceded by the levels indicated in the Annex to this notice. The definitions of these products were provided in the Notice of Safeguard Action published in the Federal Register, at 60 FR 427, January 4, 1995.

Issued at Washington, DC this 3rd day of July, 2006.
Michael W. Yost.
Administrator, Foreign Agricultural Service.

Annex: Quantity-Based Safeguard Trigger
Product | Trigger level | Period
Beef | 447,684 mt | January 1, 2006 to December 31, 2006.
Mutton | 3,242 mt | January 1, 2006 to December 31, 2006.
Cream | 4,298,187 liters | January 1, 2006 to December 31, 2006.
Evaporated or Condensed Milk | 6,930,879 kilograms | January 1, 2006 to December 31, 2006.
Nonfat Dry Milk | 898,525 kilograms | January 1, 2006 to December 31, 2006.
Dried Whole Milk | 3,987,868 kilograms | January 1, 2006 to December 31, 2006.
Dried Cream | 40,235 kilograms | January 1, 2006 to December 31, 2006.
Dried Whey/Buttermilk | 70,736 kilograms | January 1, 2006 to December 31, 2006.
Butter | 11,548,913 kilograms | January 1, 2006 to December 31, 2006.
Butter Oil and Butter Substitutes | 8,745,001 kilograms | January 1, 2006 to December 31, 2006.
Dairy Mixtures | 37,038,485 kilograms | January 1, 2006 to December 31, 2006.
Blue Cheese | 5,047,654 kilograms | January 1, 2006 to December 31, 2006.
Cheddar Cheese | 12,356,363 kilograms | January 1, 2006 to December 31, 2006.
American-Type Cheese | 15,606,654 kilograms | January 1, 2006 to December 31, 2006.
Edam/Gouda Cheese | 8,318,776 kilograms | January 1, 2006 to December 31, 2006.
Italian-Type Cheese | 23,130,918 kilograms | January 1, 2006 to December 31, 2006.
Swiss Cheese with Eye Formation | 34,767,209 kilograms | January 1, 2006 to December 31, 2006.
Gruyere Process Cheese | 8,355,381 kilograms | January 1, 2006 to December 31, 2006.
Lowfat Cheese | 3,603,811 kilograms | January 1, 2006 to December 31, 2006.
NSPF Cheese | 55,111,280 kilograms | January 1, 2006 to December 31, 2006.
Peanuts | 15,699 mt | April 1, 2006 to March 31, 2007.
Peanut Butter/Paste | 3,637 mt | January 1, 2006 to December 31, 2006.
Raw Cane Sugar | 1,096,324 mt | October 1, 2005 to September 30, 2006.
| 1,172,199 mt | October 1, 2006 to September 30, 2007.
Refined Sugar and Syrups | 36,661 mt | October 1, 2005 to September 30, 2006.
| 73,889 | October 1, 2006 to September 30, 2007.
Blended Syrups | 59 mt | October 1, 2005 to September 30, 2006.
| 36 mt | October 1, 2006 to September 30, 2007.
Articles Over 65% Sugar | 170 mt | October 1, 2005 to September 30, 2006.
| 358 mt | October 1, 2006 to September 30, 2007.
Articles Over 10% Sugar | 12,067 mt | October 1, 2005 to September 30, 2006.
| 18,297 mt | October 1, 2006 to September 30, 2007.
Sweetened Cocoa Powder | 660 mt | October 1, 2005 to September 30, 2006.
| 1,008 mt | October 1, 2006 to September 30, 2007.
Chocolate Crumb | 8,542,963 kilograms | January 1, 2006 to December 31, 2006.
Lowfat Chocolate Crumb | 229,080 kilograms | January 1, 2006 to December 31, 2006.
Infant Formula Containing Oligosaccharides | 53,153 kilograms | January 1, 2006 to December 31, 2006.
Mixes and Doughs | 78 mt | October 1, 2005 to September 30, 2006.
| 101 mt | October 1, 2006 to September 30, 2007.
Mixed Condiments and Seasonings | 98 mt | October 1, 2005 to September 30, 2006.
| 0 mt | October 1, 2006 to September 30, 2007.
Ice Cream | 1,636, 297 liters | January 1, 2006 to December 31, 2006.
Animal Feed Containing Milk | 157,978 kilograms | January 1, 2006 to December 31, 2006.
Short Staple Cotton | 20,042 kilograms | September 20, 2005 to September 19, 2006.
| 29,945 kilograms | September 20, 2006 to September 19, 2007.
Harsh or Rough Cotton | 0 mt | August 1, 2005 to July 31, 2006.
| 0 mt | August 1, 2006 to July 31, 2007.
Medium Staple Cotton | 1,571,375 kilograms | August 1, 2005 to July 31, 2006.
| 2,361,931 kilograms | August 1, 2006 to July 31, 2007.
Extra Long Staple Cotton | 9,736,417 kilograms | August 1, 2005 to July 31, 2006.
| 8,109,615 kilograms | August 1, 2006 to July 31, 2007.
Cotton Waste | 5,125 kilograms | September 20, 2005 to September 19, 2006.
| 7,692 kilograms | Sepember 20, 2006 to September 19, 2007.
Cotton, Processed, Not Spun | 80,208 kilograms | September 11, 2005 to September 10, 2006.
| 26,883 kilograms | September 11, 2006 to September 10, 2007.

[FR Doc. 06-6406 Filed 7-21-06; 8:45 am]

BILLING CODE 3410-10-M